DEPARTMENT OF COMMERCE

Foreign-Trade Zones Board

[B-58-2017]

Foreign-Trade Zone (FTZ) 23—Erie County, New York; Notification of Proposed Production Activity; Cummins, Inc.; (Diesel and Gas Engines); Lakewood and Jamestown, New York

The Erie County Industrial Development Agency, grantee of FTZ 23, submitted a notification of proposed production activity to the FTZ Board on behalf of Cummins, Inc. (Cummins), located within Subzone 23D in Lakewood and Jamestown, New York. The notification conforming to the requirements of the regulations of the FTZ Board (15 CFR 400.22) was received on August 28, 2017.

The Cummins facility is used for the production of diesel and gas engines. Pursuant to 15 CFR 400.14(b), FTZ activity would be limited to the specific foreign-status materials and components and specific finished products described in the submitted notification (as described below) and subsequently authorized by the FTZ Board.

Production under FTZ procedures could exempt Cummins from customs duty payments on the foreign-status components used in export production. On its domestic sales, for the foreign-status materials/components noted below, Cummins would be able to choose the duty rates during customs entry procedures that apply to: Automotive diesel and natural gas engines; industrial diesel engines; stationary generator diesel engines; and, recreational marine diesel engines (duty free to 2.5%). Cummins would be able to avoid duty on foreign-status components which become scrap/waste. Customs duties also could possibly be deferred or reduced on foreign-status production equipment.

The components and materials sourced from abroad include: Accumulators; adapters (air inlet/filter head/hydraulic pump/spline); cylinder blocks; steel and iron braces (bracket/fuel pump/gear housing/tube); brackets (belt tensioner/breather/electronic control module/lifting/shipping/transfer pump); main bearing caps; steel injector clamps; ignition coils; exhaust collars; connections (air intake/exhaust transfer/fuel block/turbo oil drain/water inlet/water outlet/water transfer/injector fuel supply); electronic control coolers; oil coolers; covers (access hole/hand hole/rocker lever/starter flange); valve crossheads; viscous vibration dampers; steel and rubber gaskets (accessory drive support//carrier/cover plate/cylinder head/gear housing/oil pan/oil transfer connection/thermostat housing); gears (camshaft/flywheel ring/hydraulic pump/idler); electronic control module wiring harnesses; wiring harnesses; corrosion resistor heads; fuel filter heads; lubricating oil filter heads; intake air heaters; silicone rubber hump hoses; silicone rubber hoses; housings (flywheel/gear/oil cooler/rocker lever/thermostat/thermostat top level assembly); levers (cam follower/rocker/rocker top level assembly); adjusting links; air manifolds; exhaust manifolds; fuel drain manifolds; ignition control modules; oil pans; steel air inlet pipes; exhaust outlet pipes; plates (clamping/cooler/cover); flanged o-ring plugs; threaded plugs; pulleys (accessory drive/alternator/crankshaft/idler); pumps (fuel transfer/lubricating oil/water); injector fuel support connector retainers; engine connecting rods; push rods; valve rotators; rubber corrosion resistor seals; rubber seals (flywheel housing/front cover/gear housing/oil cooler housing/oil filter head/rocker level housing); sensors (engine speed/humidity/position); shafts (gar accessory drive/cam follower/idler/rocker lever); steel injector sleeves; aluminum/steel/nylon spacers; cylinder block stiffeners; steel/aluminum/cast iron supports (accessory/air compressor/alternator/breather/camshaft/exhaust/recirculation cooler/front engine/fuel pump/rocker lever/thermostat housing); temperature switches; steel tubes (compressor air inlet/injector fuel supply/lubricating oil suction/oil gauge/vent); turbocharger; solenoid valves; and, aluminum exhaust gas recirculation venturi (duty rates range from free to 4.7%).

Public comment is invited from interested parties. Submissions shall be addressed to the Board's Executive Secretary at the address below. The closing period for their receipt is November 6, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane Finver at Diane.Finver@trade.gov or (202) 482-1367.

Dated: September 20, 2017.
Andrew McGilvray,
Executive Secretary.

[FR Doc. 2017-20403 Filed 9-22-17; 8:45 am]

BILLING CODE 3510-DS-P